DEPARTMENT OF THE INTERIOR

Bureau of Land Management

[AK-040-1430-EQ; AA-081878]

Notice of Realty Action; Recreation and Public Purposes (R&PP) Act Classification; R&PP Lease of Public Lands; Alaska

AGENCY: Bureau of Land Management, Interior.

ACTION: Notice.

SUMMARY: The following public lands along the Anvik River in western Alaska have been examined and found suitable for classification and opening under the provisions of the Recreation and Public Purposes Act, as amended (43 U.S.C. 869 et seq.).

Seward Meridian

Alaska

T. 31 N., R. 61 W.

NW1/4NE1/4NE1/4, Section 34

SW1/4NW1/4NW1/4, Section 35

Containing 2.00 acres more or less.

This action is a motion by the Bureau of Land Management to make available lands identified in the Management Framework Plan dated November 1981 for the Southwest Planning area available for the erection of structures used to enhance fisheries resources. Due to the remote location of these lands this activity may have potential for research expansion. Lease of these lands for public purpose use would be in the public and Federal government interest. Detailed information concerning this action is available for review at the office of the Bureau of Land Management, Anchorage Field Office, 6881 Abbott Loop Road, Anchorage, Alaska.

Lease of these lands will be subject to the following terms, conditions, and reservations:

1. Provisions of the Recreation and Public Purposes Act and to all applicable regulations of the Secretary of the Interior.

2. All valid existing rights documented on the official public land records at the time of lease issuance.

3. All minerals shall be reserved to the United States, together with the right to prospect for, mine, and remove the minerals.

4. Any other reservations that the authorized officer determines appropriate to ensure public access and proper management of Federal lands and interests therein.

Upon publication of this notice in the Federal Register, the lands will be segregated from all forms of appropriation under the public land laws, including the general mining laws, except for lease or conveyance under the Recreation and Public Purposes Act and leasing under the mineral leasing law. For a period of 45 days from the date of publication of this notice in the Federal Register, interested parties may submit comments regarding the proposed classification of the lands to the Anchorage Field Manager. In the absence of any adverse comments, the classification will be effective 60 days from the date of publication of this notice.

FOR FURTHER INFORMATION CONTACT: Dorothy Bonds, Anchorage Field Office, 6881 Abbott Loop Road, Anchorage, Alaska 99507, (907) 267-1239.

Dated: December 17, 2002.
Clinton E. Hanson,
Acting Anchorage Field Manager.

[FR Doc. 03-4181 Filed 2-20-03; 8:45 am]

BILLING CODE 4310-JA-P